CORPORATION FOR NATIONAL AND COMMUNITY SERVICE

Availability of Draft Strategic Plan and Request for Comment

AGENCY: Corporation for National and Community Service.

ACTION: Notice of availability of draft strategic plan and request for comment.

SUMMARY: The Corporation for National and Community Service (“Corporation”) announces the availability of its draft strategic plan for 2005-2010. The Government Performance and Results Act of 1993 (GPRA) requires Federal agencies to establish a strategic plan covering not less than a 5-year period, and to solicit the views and suggestions of those entities potentially affected by or interested in the plan. The Corporation is interested in receiving comments on its draft strategic plan. Comments may be provided in writing or expressed during scheduled conference calls.

DATES: Written comments must be submitted by August 31, 2005. If comments are received after that date, we will consider them to the extent practicable.

ADDRESSES: Written comments on the draft strategic plan may be submitted to the Corporation by any of the following methods:

1. Electronically via the Corporation's e-mail address system to: strategicplan@cns.gov.

2. By fax to 202-606-3464, Attention: CNCS Strategic Plan Coordinator, Office of Research and Policy Development, 1201 New York Avenue, NW., Suite 10900, Washington, DC.

3. By hand delivery or courier to the Corporation's mailroom at room 8410 at the address given in paragraph (2) above, between 9 a.m. and 4 p.m., Monday through Friday, except Federal holidays.

4. By mail sent to: Corporation for National and Community Service, Attention: Strategic Plan Coordinator, Office of Research and Policy Development, 1201 New York Avenue, NW., Suite 10900, Washington, DC 20525.

Due to continued delays in the Corporation's receipt of mail, we strongly encourage responses via e-mail, fax, and hand or courier delivery. Additionally, comments may be expressed during scheduled conference calls described below. This notice may be requested in alternative format for the visually impaired.

FOR FURTHER INFORMATION CONTACT: LaMonica Shelton; Corporation for National and Community Service, 1201 New York Avenue, NW., Washington, DC 20525; (202) 606-6743. For additional information about the conference calls, please refer to our Web site http://www.NationalService.gov or contact Angela Martin at 202-606-6711 or amartin@cns.gov. The TDD/TTY number is 202-606-3472.

SUPPLEMENTARY INFORMATION: GPRA requires Federal agencies to establish a strategic plan covering not less than a 5-year period, and to solicit the views and suggestions of those entities potentially affected by or interested in the plan. This notice represents one in a series of consultations seeking input from a variety of sources on the Corporation's draft strategic plan. The draft strategic plan is available on the Corporation's Web site at http://www.NationalService.gov. The draft plan includes the Corporation's mission statement and a description of strategic goals and implementation steps. The Corporation's annual operating plans and budgets are designed to implement the strategic plan. We would like to receive input from a wide range of organizations, public bodies, and other stakeholders. We especially encourage the views and suggestions of organizations sponsoring national service programs, state commissions on national and community service, state and local education agencies, other state and local government entities, other volunteer and service organizations, and Members of Congress. The Corporation also encourages comments from current and former participants in Corporation-funded national service programs and has sought the input of our own employees.

Please consider the following questions in providing your input:

• Does the document express the spirit and history of service while also explaining why Corporation-funded national service programs are critical today?

• Are the focus areas appropriate cross-program priorities for the agency for the next five years?

• Under the focus areas, have we identified strong strategies and targets?

• Will this Strategic Plan help you in your future planning?

Public Comment. It is the policy of the Corporation to encourage stakeholders in our programs and other interested parties to comment on the draft strategic plan. This policy is intended to provide a means for gathering a collection of opinions and perspectives that will enable us to make more informed decisions on matters that affect the future of our national service programs. In addition to written comments, which may be submitted in the manner set out above in the ADDRESSES section, input also may be provided by participating in one of our conference calls.

Conference Calls. During the month of August, the Corporation is planning three conference calls for the purpose of obtaining comments on the draft strategic plan. Please check our Web site at http://www.NationalService.gov for further information on dates, times, and other information regarding these conference calls, or contact Angela Martin at 202-606-6711 or amartin@cns.gov.

As you comment, please provide the rationale for any suggestions and identify whether you base your suggestions on participation in, or direct observation of, national service programs and activities conducted and supported by the Corporation. We anticipate publishing the final Strategic Plan for 2005-2010 in the fall of 2005, and making it available on our Web site at that time.

Dated: July 28, 2005.
Frank R. Trinity,
General Counsel.

[FR Doc. 05-15261 Filed 8-2-05; 8:45 am]

BILLING CODE 6050-$$-P